GENERAL SERVICES ADMINISTRATION

48 CFR Parts 501, 514, and 552

[GSAR Case 2014-G501; Docket No. 2014-0007; Sequence No. 1]

RIN 3090-AJ47

General Services Administration Acquisition Regulation (GSAR); Progressive Awards and Monthly Quantity Allocations

AGENCY: Office of Acquisition Policy, General Services Administration.

ACTION: Proposed rule.

SUMMARY: The General Services Administration (GSA) is proposing to amend the General Services Administration Acquisition Regulation (GSAR) to remove GSAR clause Progressive Awards and Monthly Quantity Allocations.

DATES: Interested parties should submit written comments to the Regulatory Secretariat on or before June 30, 2014 to be considered in the formulation of a final rule.

ADDRESSES: Submit comments identified by GSAR Case 2014-G501, Progressive Awards and Monthly Quantity Allocations, by any of the following methods:

• Regulations.gov: http://www.regulations.gov. Submit comments by searching for “GSAR Case 2014-G501”. Select the link “Comment Now” and follow the instructions provided at the “You are commenting on” screen. Please include your name, company name (if any), and “GSAR Case 2014-G501”, on your attached document.

• Fax: 202-501-4067.

• Mail: U.S. General Services Administration, Regulatory Secretariat Division (MVCB), 1800 F Street NW., 2nd Floor, ATTN: Hada Flowers, Washington, DC 20405.

Instructions: Please submit comments only and cite GSAR Case 2014-G501 in all correspondence related to this case. All comments received will be posted without change to http://www.regulations.gov, including any personal and/or business confidential information provided.

FOR FURTHER INFORMATION CONTACT: Ms. Deborah Eble, Procurement Analyst, at 215-446-5823, or email at deborah.eble@gsa.gov, for clarification of content. For information pertaining to the status or publication schedules, contact the Regulatory Secretariat at 202-501-4755. Please cite GSAR Case 2014-G501.

SUPPLEMENTARY INFORMATION:

I. Background

GSA is proposing to amend the GSAR to delete GSAR clause 552.214-71, Progressive Awards and Monthly Quantity Allocations, and provide other conforming changes.

This rule is a result of the retrospective analysis conducted under Executive Order (E.O.) 13563, Improving Regulation and Regulatory Review. E.O. 13563 required agencies to review existing regulations and identify rules that are obsolete, unnecessary, unjustified, excessively burdensome or counterproductive and identify those rules that warrant repeal, amendment, or revision. GSA identified GSAR clause 552.214-71, Progressive Awards and Monthly Quantity Allocations as one of four information collections in GSA's Final Plan for Retrospective Analysis approved by the Office of Management and Budget (OMB) on August 18, 2011. GSA's Final Plan for Retrospective Analysis was published in the Federal Register at 76 FR 32088 on June 3, 2011, (http://www.gpo.gov/fdsys/pkg/FR-2011-06-03/pdf/2011-13495.pdf), welcoming public comments. The GSA Final Plan was also posted on www.gsa.gov/open. No comments were received.

II. Discussion and Analysis

GSAR clause 552.214-71 was used to support some stock replenishment contracts under the GSA's Federal Acquisition Service (FAS) Global Supply Program, supplying firefighting clothing and shelter. The prescription at GSAR 514.201-7 states that some contractors may be unable to meet the Government's monthly requirements for some stock replenishment contracts and therefore recommends the use of GSAR clause 552.214-71 in solicitations and contracts. The clause requires contractors to identify monthly quantities they are able to furnish from the same production facilities. The clause then enables the Government to make progressive awards beginning with the lowest responsive offeror, including each next low responsive offeror until the Government's need is fulfilled.

As a result of the Retrospective Analysis, GSA determined that the GSAR clause, 552.214-71, Progressive Awards Monthly Quantity Allocations, is obsolete and no longer necessary. The clause is no longer used by Federal Acquisition Service's (FAS) Global Supply Program and is not included in any of the GSA Federal Supply Schedule contracts, including those for firefighting clothing and shelters.

The specific changes contained in this rule are as follows:

• Information Collection 3090-0200, Sealed Bidding, which references GSAR 552.214-71, Progressive Awards and Monthly Quantity Allocations, is deleted in its entirety.

• Under GSAR Subpart 501.106—references 514.201-7(a) and 552.214-71 and corresponding OMB Control Number 3090-0200, Sealed Bidding, are deleted.

• GSAR 514.201-7—Deleted in its entirety.

• GSAR 552.214-71—Deleted in its entirety.

III. Executive Orders 12866 and 13563

Executive Orders (E.O.s) 12866 and 13563 direct agencies to assess all costs and benefits of available regulatory alternatives and, if regulation is necessary, to select regulatory approaches that maximize net benefits (including potential economic, environmental, public health and safety effects, distributive impacts, and equity). E.O. 13563 emphasizes the importance of quantifying both costs and benefits, of reducing costs, of harmonizing rules, and of promoting flexibility. This is not a significant regulatory action and, therefore, was not subject to review under Section 6(b) of E.O. 12866, Regulatory Planning and Review, dated September 30, 1993. This rule is not a major rule under 5 U.S.C. 804.

IV. Regulatory Flexibility Act

GSA does not expect this rule to have a significant economic impact on a substantial number of small business entities within the meaning of the Regulatory Flexibility Act, 5 U.S.C. 601, et seq., as the Information Collection 3090-0200 is no longer needed and is removed from the GSAR. However, the agency did proceed with an Initial Regulatory Flexibility Analysis (IRFA) since this is issued as a proposed rule. This proposed rule reduces the burden on small entities within the meaning of the Regulatory Flexibility Act, 5 U.S.C. 601, et seq., as the Information Collection 3090-0200, Sealed Bidding, citing GSAR clause 552.214-71, Progressive Awards and Monthly Quantity Allocations, is no longer needed and is removed from the GSAR. This IRFA has been prepared consistent with the criteria of 5 U.S.C. 604. The analysis is summarized as follows:

The clause is no longer used to support GSA's Global Supply Program, supplying fire fighting protective clothing and shelters as described in Information Collection 3090-0200. GSA Schedule 84, Total Solutions for Law Enforcement, Security, Facilities Management, Fire, Rescue, Clothing, Marine Craft and Everyday Disaster Response, forms the basis for the Global Supply Program, including fire fighter clothing and shelters. The review of the terms and conditions listed in the Schedule 84 solicitation confirmed GSAR clause 552.214-71 is no longer used.

The review of the terms and conditions of the awarded Schedule 84 contractors supplying wildland fire fighting clothing and shelters, specifically under Special Item Number (SIN) 633 30 through SIN 633 39 in GSA Advantage, found there were no restrictions in the quantities of supplies offered by the awarded firms, including 47 small businesses, further supporting the determination that the clause is no longer used.

The Regulatory Secretariat has submitted a copy of the IRFA to the Chief Counsel for Advocacy of the Small Business Administration. A copy of the IRFA may be obtained from the Regulatory Secretariat. GSA invites comments from small business concerns and other interested parties on the expected impact of this rule on small entities.

GSA will also consider comments from small entities concerning the existing regulations in subparts affected by this rule in accordance with 5 U.S.C. 610. Interested parties must submit such comments separately and should cite 5 U.S.C. 610, et seq. (GSAR Case 2014-G501), in correspondence.

V. Paperwork Reduction Act

The Paperwork Reduction Act (44 U.S.C. Chapter 35) does not apply. OMB approved the withdrawal and discontinuation of the Information Collection 3090-0200, Sealed Bidding, identifying GSAR Clause 552.214-71, Progressive Awards and Monthly Quantity Allocations, on October 24, 2011. Based upon the withdrawal of the information collection requirements the agency reflected a public burden estimate of 5 burden hours with a base labor rate of $32.93 for a total cost savings of $164.65. With the deletion of the reporting requirement and discontinuation of the information collection, this rule does not contain any information collection that requires additional approval of the Office of Management and Budget under the Paperwork Reduction Act (44 U.S.C. Chapter 35).

List of Subjects in 48 CFR Parts 501, 514, and 552

Government procurement.

Dated: April 21, 2014.
Jeffrey Koses,
Senior Procurement Executive, Office of Acquisition Policy, Office of Government-wide Policy.

Therefore, GSA proposes to amend 48 CFR parts 501, 514, and 552 as set forth below:

PART 501—GENERAL SERVICES ADMINISTRATION ACQUISITION REGULATION SYSTEM

1. The authority citation for 48 CFR part 501 continues to read as follows:

Authority: 40 U.S.C. 121(c).

501.106 [Amended]

2. Amend section 501.106 in the table, by removing, GSAR Reference “514.201-7(a)” and “552.214-71” and their corresponding OMB Control Number “3090-0200”.

PART 514—SEALED BIDDING

3. Revise the authority citation for 48 CFR part 514 to read as follows:

Authority: 40 U.S.C. 121(c).

514.201-7 [Removed and Reserved]

4. Remove and reserve section 514.201-7.

PART 552—SOLICITATION PROVISIONS AND CONTRACT CLAUSES

5. The authority citation for 48 CFR part 552 continues to read as follows:

Authority: 40 U.S.C. 121(c).

552.214-71 [Removed and Reserved]

6. Remove and reserve section 552.214-71.

[FR Doc. 2014-09850 Filed 4-29-14; 8:45 am]

BILLING CODE 6820-61-P